DEPARTMENT OF STATE

[Delegation of Authority No. 357]

Delegation to the Assistant Secretary for Administration of Procurement Functions and Authorities

By virtue of the authority vested in the Secretary of State by 22 U.S.C. 2651a and 41 U.S.C. 1702, and delegated to me by Delegation of Authority 198, dated September 16, 1992, I hereby delegate to the Assistant Secretary of State for Administration, all duties, responsibilities and powers of the Secretary with respect to Department procurement; and authority to act as head of the agency with respect to procurement.

I. Scope

1. In carrying out these functions, the Assistant Secretary for Administration shall:

a. Prescribe and publish the Department of State Acquisition Regulation (48 CFR Chapter 6) and other directives pertaining to procurement including, but not limited to, those incorporated in 48 CFR Chapter 6.

b. To the extent permitted by law, make all determinations and findings required by statute or regulation to be made by the Head of the Agency.

2. The authority delegated herein shall be exercised in accordance with the applicable limitations and requirements of the Federal Property and Administrative Services Act, as amended; the Federal Acquisition Regulation (48 CFR Chapter 1); the applicable portions of the Federal Property Management Regulations (41 CFR Chapter 101); as well as other relevant statutes and regulations.

3. The Assistant Secretary for Administration is authorized to re-delegate (and authorize the subsequent re-delegation of) any of the authorities delegated herein, to the extent authorized by law, to any qualified employee of the Department of State.

4. The Assistant Secretary for Administration shall serve as Chief Acquisition Officer (CAO), and shall carry out the duties enumerated in 41 U.S.C. 1702, including the following duties:

a. Advise and assist the Secretary and other Department officials to ensure that the mission of the Department is achieved through the management of the Department's acquisition activities.

b. Responsible for monitoring the performance of acquisition activities and acquisition programs of the Department, evaluating the performance of those programs on the basis of applicable performance measurements, and advising the Secretary, Deputy Secretaries, and Under Secretary for Management regarding the appropriate business strategy to achieve the mission of the Department.

c. Increase the use of full and open competition in the acquisition of property and services by the Department by establishing policies, procedures, and practices that ensure that the Department receives a sufficient number of sealed bids or competitive offers from responsible sources to fulfill the Department's requirements (including performance and delivery schedules) at the lowest cost or best value considering the nature of the property or service procured.

d. Increase the appropriate use of performance-based contracting and performance specifications.

e. Make acquisition decisions consistent with all applicable laws and establish clear lines of authority, accountability, and responsibility for acquisition decision making within the Department.

f. Manage the direction of acquisition policy for the Department, including implementation of the unique acquisition policies, regulations, and standards of the Department.

g. Develop and maintain an acquisition career management program in the Department to ensure that there is an adequate professional workforce.

h. Advise the Department on the applicability of relevant policy on the contracts of the agency for overseas contingency operations and ensure the compliance of the contracts and contracting activities of the Department with such policy.

5. As part of the strategic planning and performance evaluation process required by 5 U.S.C. 306 and 31 U.S.C. 1105(a)(28), 1115, 1116, and 9703 (Managerial Accountability and Flexibility), the CAO will:

a. Assess the requirements established for agency personnel regarding knowledge and skill in acquisition resources management and the adequacy of those requirements for facilitating the achievement of the performance goals established for acquisition management;

b. Develop strategies and specific plans for hiring, training, and professional development to rectify a deficiency in meeting those requirements; and

c. Report to the Secretary on the progress made in improving acquisition management capability.

II. Technical

1. This delegation of authority supersedes Department of State Delegation No. 120-4, dated July 26, 1994; No. 120-5, dated November 23, 1994; and No. 120-6, dated February 21, 2004.

2. This document will be published in the Federal Register.

Dated: April 30, 2013.
Patrick F. Kennedy,
Under Secretary for Management.

[FR Doc. 2013-12942 Filed 5-30-13; 8:45 am]

BILLING CODE 4710-24-P